ENVIRONMENTAL PROTECTION AGENCY

[FRL-6852-4]

Regulatory Reinvention (XLC) Pilot Projects; Project XLC Phase I (Planning) Project Agreement: Clermont County, OH.

AGENCY: Environmental Protection Agency.

ACTION: Notice of Project XLC Phase I (Planning) Project Agreement.

SUMMARY: EPA is requesting comments on a proposed Project XLC Phase I (Planning) Project Agreement (PA) for Clermont County (hereafter “Clermont”). The PA is a voluntary agreement developed collaboratively by Clermont, the Ohio Environmental Protection Agency (OEPA), and EPA. Project XLC, announced in the Federal Register on November 1, 1995, (60 FR 55569), gives regulated sources the flexibility to develop alternative strategies that will replace or modify specific regulatory requirements on the condition that they produce greater environmental benefits.

Clermont County is one of the fastest developing counties in Ohio, located just east of Cincinnati. The County is experiencing significant changes in population density and rural demographics. The Clermont County XLC Project focuses on the East Fork of the Little Miami River (EFLMR) watershed. The specific waters within the County considered under this Agreement include the EFLMR mainstream and tributaries, and Harsha Lake, which is located centrally within the EFLMR basin. The EFLMR is a major tributary to the Little Miami River, which is a designated State and National Scenic River and is the State of Ohio's largest Exceptional Warmwater Habitat stream.

Clermont County proposes a comprehensive watershed management plan for the EFLMR. The major goal of this watershed plan is to address environmental management of its resources with an aggressive and innovative approach so that it can maintain a balance between economic growth and the preservation of its rural character and environment, and where possible strive to improve the environment and protection of the area's natural resources. The County will work in partnership with the Ohio Environmental Protection Agency (OEPA) and EPA to design and implement a plan to maintain and improve water quality, land use and economic development in the County. The development of this watershed plan will empower the local community to work with the County to review current water quality standards and establish meaningful measures of environmental conditions that are based on the specific characteristics of the EFLMR and its tributaries. Once the water quality goals are established for the watershed, the primary responsibility for achieving those goals will be at the local level. The command and control regulatory framework will be replaced with a collaborative goal setting approach. As part of the watershed management plan, Clermont County will develop a sampling and monitoring program, and a County Environmental Protection Plan that will enable the County to compile data on existing watershed environmental conditions. New findings from the sampling program pertaining to the chemical and biological characteristics of the EFLMR will be used in computer-based simulations to make predictions regarding point and non-point source pollution. The plan will also use the information to identify which policy and capital changes regarding the land management policies must be made in order to attain the County's water quality goals in the watershed. In addition, the County anticipates using an effluent trading system in which pollution credits may be exchanged among point and non-point sources.

No regulatory flexibility is needed for the initial planning phase of this Project. More specific details regarding regulatory flexibility will be identified in the development of subsequent phases that will implement the planning developed during the initial phase. This multi-phased approach is expected to achieve superior environmental performance through greater local responsibility and management of point and nonpoint sources. The Project is comprehensive in scope and will include development issues closely tied to water quality such as land use, development procedures, open space and farmland preservation, and economic development. Most importantly, the County is being proactive-investing in watershed management controls not currently regulated by the National Pollutant Discharge Elimination System permits and much sooner than would otherwise be required under a waste load allocation and Total Maximum Daily Loads developed by OEPA. Because the watershed is rapidly developing and degraded water quality is expected if existing regulations and practices are continued, the baseline for this proactive approach to superior environmental performance is defined as no adverse trends in water quality indicators.

DATES: The period for submission of comments ends on August 30, 2000.

ADDRESSES: All comments on the proposed Phase I (Planning) Project Agreement should be sent to: Mr. Christopher Murphy, US EPA, Region 5 Water Division (WA-16J), 77 West Jackson Boulevard, Chicago, IL 60604, or Ms. Lisa Reiter US EPA, Ariel Rios Building, Mail Code 1802, 1200 Pennsylvania Avenue, NW, Washington, D.C. 20460. Comments may also be faxed to Christopher Murphy (312) 886-0168 or Lisa Reiter (202) 260-3125. Comments may also be received via electronic mail sent to: murphy.christopher@epa.gov or reiter.lisa@epa.gov.

FOR FURTHER INFORMATION CONTACT: To obtain a copy of the Project Fact Sheet or the proposed Phase I (Planning) Project Agreement, contact: Christopher Murphy, US EPA, Region 5 Water Division (WA-16J), 77 West Jackson Boulevard, Chicago, IL 60604, or Ms. Lisa Reiter, US EPA, Ariel Rios Building, Mail Code 1802, 1200 Pennsylvania Avenue, NW, Washington, D.C. 20460. The PA and related documents are also available via the Internet at the following location: http://www.epa.gov/ProjectXL. In addition, a hard copy of the proposed PA will be available at Clermont County's Office of Environmental Quality, Clermont County, 2379 Clermont Center Drive, Batavia, OH 45103—contact Paul Braasch, Clermont County Project XLC Coordinator for a copy: (513) 732-7745.

Questions to EPA regarding the documents can be directed to Christopher Murphy at (312) 886-0172 or Lisa Reiter at (202) 260-9041. To be included on the Clermont County Project XLC mailing list about future public meetings, XLC progress reports and other mailings from Clermont County on the XLC project, contact Paul Braasch, Clermont County Project XLC Coordinator, Office of Environmental Quality, Clermont County, 2379 Clermont Center Drive, Batavia, OH 45103. For information on all other aspects of the XLC Program, contact Christopher Knopes at the following address: Office of Environmental Policy Innovation, US EPA, Mail Code 1802, Ariel Rios Building, 1200 Pennsylvania Avenue, NW, Washington, D.C. 20460. Additional information on Project XLC, including documents referenced in this notice, other EPA policy documents related to Project XLC, Regional XLC contacts, application information, and descriptions of existing XLC projects and proposals, is available via the Internet at http://www.epa.gov/ProjectXL.

Dated: August 10, 2000.
Elizabeth A. Shaw,
Director, Office of Environmental Policy and Innovation.

[FR Doc. 00-20809 Filed 8-15-00; 8:45 am]

BILLING CODE 6560-50-P